DEPARTMENT OF ENERGY

Federal Energy Regulatory Commission

[Docket No. RP03-262-003]

Natural Gas Pipeline Company of America; Notice of Compliance Filing

April 16, 2004.

Take notice that on April 13, 2004, Natural Gas Pipeline Company of America (Natural) tendered for filing to become part of its FERC Gas Tariff, Sixth Revised Volume No. 1, certain tariff sheets, to be effective June 1, 2004.

Natural states that the purpose of this filing is to comply with the Commission's Order Granting Clarification issued on March 29, 2004 (Order). Natural explains that the Order required changes to a prior compliance filing made by Natural in the referenced docket on April 17, 2003. Natural asserts that no tariff changes other than those required by the Order are reflected in this filing.

Natural states that copies of the filing are being mailed to all parties set out of the Commission's official service list in Docket No. RP03-262.

Any person desiring to protest said filing should file a protest with the Federal Energy Regulatory Commission, 888 First Street, NE., Washington, DC 20426, in accordance with § 385.211 of the Commission's Rules and Regulations. All such protests must be filed in accordance with § 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Magalie R. Salas,
Secretary.

[FR Doc. E4-917 Filed 4-23-04; 8:45 am]

BILLING CODE 6717-01-P